INTERNATIONAL TRADE COMMISSION

[Investigation Nos. 731-TA-753, 754, and 756 (Second Review)]

Cut-to-Length Carbon Steel Plate From China, Russia, and Ukraine

Determination

On the basis of the record ¹ developed in the subject five-year reviews, the United States International Trade Commission (Commission) determines, pursuant to section 751(c) of the Tariff Act of 1930 (19 U.S.C. 1675d(c)) (the Act), that revocation of the antidumping duty order on cut-to-length carbon steel plate from China, and termination of the suspended antidumping duty investigations on imports of cut-to-length carbon steel plate from Russia and Ukraine, would be likely to lead to continuation or recurrence of material injury to an industry in the United States within a reasonably foreseeable time.

¹ The record is defined in sec. 207.2(f) of the Commission's Rules of Practice and Procedure (19 CFR 207.2(f)).

Background

The Commission instituted these reviews on August 1, 2008 (73 FR 45071) and determined on November 4, 2008 that it would conduct full reviews (73 FR 70368, November 20, 2008). Notice of the scheduling of the Commission's reviews and of a public hearing to be held in connection therewith was given by posting copies of the notice in the Office of the Secretary, U.S. International Trade Commission, Washington, DC, and by publishing the notice in the Federal Register on March 11, 2009 (74 FR 10614). The hearing was held in Washington, DC, on September 9, 2009, and all persons who requested the opportunity were permitted to appear in person or by counsel.

The Commission transmitted its determination in these reviews to the Secretary of Commerce on October 26, 2009. The views of the Commission are contained in USITC Publication 4103 (October 2009), entitled Cut-to-Length Carbon Steel Plate from China, Russia, and Ukraine (Inv. Nos. 731-TA-753, 754, and 756 (Second Review)).

By order of the Commission.
Issued: October 26, 2009.
William R. Bishop,
Acting Secretary to the Commission.

[FR Doc. E9-26143 Filed 10-30-09; 8:45 am]

BILLING CODE P